DEPARTMENT OF AGRICULTURE

National Agricultural Statistics Service

Notice of Intent To Request To Conduct a New Information Collection

AGENCY: National Agricultural Statistics Service, USDA.

ACTION: Notice and request for comments.

SUMMARY: In accordance with the Paperwork Reduction Act of 1995, this notice announces the intention of the National Agricultural Statistics Service (NASS) to seek approval to conduct a new information collection to gather data related to the use of agroforestry practices.

DATES: Comments on this notice must be received by August 2, 2021 to be assured of consideration.

ADDRESSES: You may submit comments, identified by docket number 0535-NEW, by any of the following methods:

• Email: ombofficer@nass.usda.gov. Include docket number above in the subject line of the message.

• E-fax: (855) 838-6382.

• Mail: Mail any paper, disk, or CD-ROM submissions to: David Hancock, NASS Clearance Officer, U.S. Department of Agriculture, Room 5336 South Building, 1400 Independence Avenue SW, Washington, DC 20250-2024.

• Hand Delivery/Courier: Hand deliver to: David Hancock, NASS Clearance Officer, U.S. Department of Agriculture, Room 5336 South Building, 1400 Independence Avenue SW, Washington, DC 20250-2024.

FOR FURTHER INFORMATION CONTACT: Kevin L. Barnes, Associate Administrator, National Agricultural Statistics Service, U.S. Department of Agriculture, (202) 720-2707. Copies of this information collection and related instructions can be obtained without charge from David Hancock, NASS—OMB Clearance Officer, at (202) 690-2388 or at ombofficer@nass.usda.gov.

SUPPLEMENTARY INFORMATION:

Title: National Agroforestry Survey.

OMB Control Number: 0535-NEW.

Type of Request: Intent to seek approval to create a new information collection for a period of three years.

Abstract: The survey will collect data whether the operator uses any of five agroforestry practices typically used for conservation: Windbreaks, Silvopasture, Riparian Forest Buffers, Alley Cropping, as well as Forest Farming & Multi-story Cropping.

Windbreaks are linear plantings of trees and shrubs designed to provide economic, environmental and community benefits. The primary purpose of most windbreaks is to slow the wind which creates a more beneficial condition for soils, crops, livestock, wildlife and people.

Silvopasture is the deliberate integration of trees and grazing livestock operations on the same land. These systems are intensively managed for both forest products and forage, providing both short- and long-term income sources.

A riparian forest buffer is an area adjacent to a stream, lake, or wetland that contains a combination of trees, shrubs, and/or other perennial plants and is managed differently from the surrounding landscape, primarily to provide conservation benefits.

Forest farming is the cultivation of high-value crops under the protection of a managed tree canopy. In some parts of the world, this is called multi-story cropping and when used on a small scale in the tropics it is sometimes called home gardening.

Alley cropping is defined as the planting of rows of trees and/or shrubs to create alleys within which agricultural or horticultural crops are produced. The trees may include valuable hardwood veneer or lumber species; fruit, nut or other specialty crop trees/shrubs; or desirable softwood species for wood fiber production.

NASS would plan and conduct the survey and deliver access to a dataset or responses to approved staff from USDA-Forestry Service, who will publish the results of the survey. This project is conducted as a cooperative effort with the U.S. Department of Agriculture's Forestry Service—National Agroforestry Center. Funding for this survey is being provided by the U.S. Department of Agriculture's Forestry Service—National Agroforestry Center.

Authority: These data will be collected under authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995 (Pub. L. 104-113, 44 U.S.C. 3501, et seq.) and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33362.

Estimate of Burden: Public reporting burden for this collection of information is estimated to average 50 minutes per response. NASS plans to mail out publicity materials with the questionnaires to inform respondents of the importance of this survey. NASS will also use a single mailing and internet data collection tools, followed up with phone and limited personal enumeration of non-respondents to increase response rates and to minimize data collection costs.

Respondents: Farmers and Ranchers who reported using agroforestry practices on the 2017 Census of Agriculture.

Estimated Number of Respondents: 11,800.

Estimated Total Annual Burden on Respondents: 9,500 hours.

Comments: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, through the use of appropriate automated, electronic, mechanical, technological, or other forms of information technology collection methods.

All responses to this notice will become a matter of public record and be summarized in the request for OMB approval.

Signed at Washington, DC, May 20, 2021.
Kevin L. Barnes,
Associate Administrator.

[FR Doc. 2021-11537 Filed 6-1-21; 8:45 am]

BILLING CODE 3410-20-P